DEPARTMENT OF ENERGY

Federal Energy Regulatory Commission

[Docket No. CP08-355-000]

East Tennessee Natural Gas, LLC; Notice of Request Under Blanket Authorization

May 13, 2008.

Take notice that on May 1, 2008, East Tennessee Natural Gas, LLC (East Tennessee), 5400 Westheimer Court, Houston, Texas 77056-5310, filed in Docket No. CP08-355-000, an application pursuant to sections 157.205, 157.208, and 157.210 of the Commission's Regulations under the Natural Gas Act (NGA) as amended, to remove and replace pipe, modify certain underground piping, and install a new inspection and cleaning pipeline pig launcher and appurtenant facilities on Line No. 3300-1 as part of the Greenway/Nora Expansion Project in Washington County, Virginia, under East Tennessee's blanket certificate issued in Docket No. CP82-412-000,¹ all as more fully set forth in the application which is on file with the Commission and open to the public for inspection.

¹20 FERC ¶62,413(1982).

East Tennessee proposes to (1) Remove and replace (relay) approximately 5.65 miles of 8-inch diameter pipe with 24-inch diameter pipe between Mileposts 9.30 and 14.95 on its Line No. 3300-1 between the Bristol and Glade Springs compressor stations in Washington County; (2) modify underground interconnecting piping at two existing meter stations located within the proposed relay section; and (3) install a new inspection and cleaning pipeline pig launcher and appurtenant facilities at the beginning of the proposed relay, all at an estimated cost of $18,900,000. East Tennessee states that it would finance this project with funds on hand. East Tennessee also states that the proposed Greenway/Nora Expansion Project facilities would allow East Tennessee to provide firm transportation service for 50,000 dekatherms (Dth) equivalent per day of natural gas into the growing North Carolina market and other upstream system locations by December 1, 2008.

Any questions concerning this application may be directed to Garth Johnson, General Manager, Certificates & Reporting, East Tennessee Natural Gas, LLC, P.O. Box 1642, Houston, Texas 77251-1642, or via telephone at (713) 627-5415, or facsimile number (713) 627-5947.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E8-11200 Filed 5-19-08; 8:45 am]

BILLING CODE 6717-01-P